DEPARTMENT OF ENERGY

Federal Energy Regulatory Commission

Combined Notice of Filings #1

Take notice that the Commission received the following electric corporate filings:

Docket Numbers: EC12-59-000.

Applicants: Old Trail Wind Farm, LLC, Telocaset Wind Power Partners, LLC, High Prairie Wind Farm II, LLC, Cloud County Wind Farm, LLC, Pioneer Prairie Wind Farm I, LLC, Sagebrush Power Partners, LLC, Arlington Wind Power Project LLC, Marble River, LLC, Flat Rock Windpower LLC, Blue Canyon Windpower LLC, Wheat Field Wind Power Project LLC, Lost Lakes Wind Farm LLC, Blue Canyon Windpower V LLC, Blackstone Wind Farm LLC, Meadow Lake Wind Farm IV LLC, Blackstone Wind Farm II LLC, Blue Canyon Windpower II LLC, High Trail Wind Farm, LLC, Meadow Lake Wind Farm LLC, Meadow Lake Wind Farm II LLC, Meadow Lake Wind Farm III LLC, Rail Splitter Wind Farm, LLC, Flat Rock Windpower II LLC, Paulding Wind Farm II LLC, Blue Canyon Windpower VI LLC, China Three Gorges Corporation, China Three Gorges International (Europe) S.A.

Description: Application for Authorization for Disposition of Jurisdictional Facilities and Request for Expedited Action of Arlington Wind Power Project LLC, et al.

Filed Date: 1/17/12.

Accession Number: 20120117-5259.

Comments Due: 5 p.m. ET 2/7/12.

Take notice that the Commission received the following electric rate filings:

Docket Numbers: ER11-3876-001; ER11-2044-002; ER10-2611-001.

Applicants: Cordova Energy Company, LLC, MidAmerican Energy Company, Saranac Power Partners, L.P.

Description: Revised Attachment B to replace Attachment B in Applicant's June 30 market analysis f Cordova Energy Company LLC, et al.

Filed Date: 7/6/11.

Accession Number: 20110706-5086.

Comments Due: 5 p.m. ET 1/25/12.

Docket Numbers: ER12-817-000.

Applicants: Midwest Independent Transmission System Operator, Inc.

Description: Midwest Independent Transmission System Operator, Inc. submits tariff filing per 35: 01-17-12 RAR Compliance Filing to be effective 7/28/2010.

Filed Date: 1/17/12.

Accession Number: 20120117-5229.

Comments Due: 5 p.m. ET 2/7/12.

Docket Numbers: ER12-818-000.

Applicants: El Paso Electric Company.

Description: El Paso Electric Company submits tariff filing per 35.13(a)(2)(iii: Arlington Valley Solar II IA to be effective 1/13/2012.

Filed Date: 1/17/12.

Accession Number: 20120117-5243.

Comments Due: 5 p.m. ET 2/7/12.

Take notice that the Commission received the following qualifying facility filings:

Docket Numbers: QF12-164-000.

Applicants: Smithfield Packing Company.

Description: Form 556—Notice of self-certification as qualifying cogeneration facility status.

Filed Date: 1/17/12.

Accession Number: 20120117-5199.

Comments Due: None Applicable.

Take notice that the Commission received the following electric reliability filings:

Docket Numbers: RD11-3-000.

Applicants: North American Electric Reliability Corporation.

Description: Compliance Filing of the North American Electric Reliability Corporation in Response to November 17, 2011 Order Approving Reliability Standard FAC-013-2—Assessment of Transfer Capability for the Near-Term Transmission Planning Horizon.

Filed Date: 1/17/12.

Accession Number: 20120117-5202.

Comments Due: 5 p.m. ET 2/16/12.

Docket Numbers: RD11-10-000.

Applicants: North American Electric Reliability Corporation.

Description: Compliance Filing of the North American Electric Reliability Corporation in Response to November 17, 2011 Order Approving Reliability Standard FAC-008-3—Facility Ratings.

Filed Date: 1/17/12.

Accession Number: 20120117-5203.

Comments Due: 5 p.m. ET 2/16/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2012.
Nathaniel J. Davis, Sr.,
Deputy Secretary.

[FR Doc. 2012-1611 Filed 1-25-12; 8:45 am]

BILLING CODE 6717-01-P